DEPARTMENT OF COMMERCE

National Oceanic and Atmospheric Administration

RIN 0648-XF076

Endangered and Threatened Species; Take of Anadromous Fish

AGENCY: National Marine Fisheries Service (NMFS), National Oceanic and Atmospheric Administration (NOAA), Commerce.

ACTION: Notice; availability of evaluation of tribal resource management plan and request for comment.

SUMMARY: Notice is hereby given that the Confederated Colville Tribes have submitted a Tribal Resource Management Plan (Tribal Plan) to NMFS pursuant to the limitation on take prohibitions for actions conducted under Tribal Plans promulgated under the Endangered Species Act (ESA). The Tribal Plan specifies artificial propagation, harvest, and research and monitoring activities in the Okanogan River basin and portions of the upper Columbia River. This document serves to notify the public of the availability for comment of the proposed evaluation of the Secretary of Commerce (Secretary) as to whether implementation of the Tribal Plan will appreciably reduce the likelihood of survival and recovery of ESA-listed Upper Columbia River Spring Chinook salmon and steelhead.

This notice further advises the public of the availability for review of a draft Environmental Assessment of the effects of the NMFS determination on the subject Tribal Plan.

DATES: Comments must be received at the appropriate address or fax number (see ADDRESSES) no later than 5:00 p.m. Pacific time on December 30, 2016.

ADDRESSES: Written comments on the proposed evaluation and pending determination should be addressed to the NMFS Sustainable Fisheries Division, 1201 NE Lloyd Blvd., Portland, OR 97232. Comments may be submitted by email. The mailbox address for providing email comments is: OkanoganPlan.wcr@noaa.gov. Include in the subject line of the email comment the following identifier: Comments on Colville Okanogan Tribal Plan. The documents are available online at www.westcoast.fisheries.noaa.gov. Comments received will also be available for public inspection, by appointment, during normal business hours by calling (503) 230-5418.

FOR FURTHER INFORMATION CONTACT: Natasha Meyers-Cherry at (503) 231-2178 or by email at natasha.meyers-cherry@noaa.gov.

SUPPLEMENTARY INFORMATION:

ESA-Listed Species Covered in This Notice

Chinook salmon (Oncorhynchus tshawytscha): Endangered (but functionally extirpated in the analysis area), naturally produced Upper Columbia River spring-run.

Steelhead (O. mykiss): Threatened, naturally produced and artificially propagated Upper Columbia River.

Background

The Confederated Colville Tribes have submitted to NMFS a Tribal Plan for hatchery, fishery harvest, predator control, kelt reconditioning, and monitoring and evaluation activities in the Okanogan River basin, in the upper Columbia River basin in Washington State. The Tribal Plan was submitted February 4, 2014, pursuant to the Tribal ESA 4(d) Rule.

The Tribal Plan describes actions involving fisheries, hatchery, predator control, and kelt reconditioning activities (with associated monitoring and evaluation) in the Okanogan Basin and Columbia River mainstem. The Tribal Plan is intended to contribute to the recovery of the steelhead population in the Okanogan Basin, and to responsibly enhance fishing opportunity on non-listed Chinook salmon.

As required by the ESA 4(d) rule for Tribal Plans (65 FR 42481; July 10, 2000), the Secretary is seeking public comment on her pending determination as to whether the Tribal Plan Chinook salmon would appreciably reduce the likelihood of survival and recovery of the Upper Columbia River Steelhead Evolutionary Significant Unit.

Authority

Under section 4 of the ESA, the Secretary is required to adopt such regulations as she deems necessary and advisable for the conservation of the species listed as threatened.

The ESA Tribal 4(d) Rule (65 FR 42481; July 10, 2000) states that the ESA section 9 take prohibitions will not apply to Tribal Plans that will not appreciably reduce the likelihood of survival and recovery for the listed species.

Dated: December 12, 2016.
Donna S. Wieting,
Director, Office of Protected Resources, National Marine Fisheries Service.

[FR Doc. 2016-30181 Filed 12-14-16; 8:45 am]

BILLING CODE 3510-22-P